DEPARTMENT OF HOMELAND SECURITY

U.S. Customs and Border Protection

19 CFR Part 122

Notice of Arrival Restrictions Applicable to Flights Carrying Persons Who Have Recently Traveled to, From, or Through Certain Ebola-Stricken Countries

AGENCY: U.S. Customs and Border Protection; Department of Homeland Security.

ACTION: Notice of arrival restrictions.

SUMMARY: This document announces the decision of the Commissioner of CBP to direct all flights to the U.S. carrying persons who have recently traveled to, from, or through Ebola-stricken countries to arrive at one of the U.S. airports where CBP is implementing enhanced screening procedures.

DATES: Effective October 21, 2014.

FOR FURTHER INFORMATION CONTACT: Francis Russo, Office of Field Operations, (202) 325-4835, ofo-ops-cat@cbp.dhs.gov.

SUPPLEMENTARY INFORMATION:

Background

According to the Centers for Disease Control and Prevention (CDC), the current Ebola virus disease (Ebola) epidemic is the largest in history, affecting multiple countries in West Africa. Ebola, previously known as Ebola hemorrhagic fever, is a rare and deadly disease caused by infection with one of the Ebola virus strains. Ebola can cause disease in humans, nonhuman primates (monkeys, gorillas, and chimpanzees), and other animals. Ebola is caused by infection with a virus of the family Filoviridae, genus Ebolavirus. There are five identified Ebola virus species found in several African countries. The current outbreak is due to Ebola virus (Zaire ebolavirus) in Guinea, Sierra Leone, and Liberia.

In order to assist in preventing the further introduction and spread of this communicable disease in the United States, CBP, in coordination with other DHS components and offices, the CDC, and other agencies charged with protecting the homeland and the American public, is currently implementing enhanced screening protocols at five U.S. airports that receive the largest number of travelers from Liberia, Guinea, and Sierra Leone. To ensure that all travelers with recent travel to, from, or through the affected countries are screened, CBP directs all flights to the U.S. carrying such persons to arrive at the five airports where the enhanced screening procedures are being implemented. While CBP anticipates working with the air carriers in an endeavor to identify potential travelers from the affected countries prior to boarding, air carriers will remain obligated to comply with the requirement of this notice, particularly in the event that travelers who have recently traveled to, from, or through the affected countries are boarded on flights bound for the U.S.

Notice of Arrival Restrictions Applicable to Flights Carrying Persons Who Have Recently Traveled to, From, or Through Certain Ebola-Stricken Countries

Pursuant to 19 U.S.C. 1433(c) and 19 CFR 122.32, CBP has the authority to limit the location where all aircraft entering the U.S. from abroad may land. Under this authority, I hereby direct all operators of aircraft carrying persons to the U.S. whose recent travel included Liberia, Guinea, or Sierra Leone to land at one of the following five airports: John F. Kennedy International Airport (JFK), New York; Newark Liberty International Airport (EWR), New Jersey; Washington Dulles International Airport (IAD), Virginia; Chicago O'Hare International Airport (ORD), Illinois; and Hartsfield-Jackson Atlanta International Airport (ATL), Georgia. This list of affected countries and airports may be modified by an updated publication in the Federal Register or by posting an advisory to follow at www.cbp.gov. The restrictions will remain in effect until superseded, modified, or revoked by publication in the Federal Register or posting on www.cbp.gov.

Dated: October 21, 2014.
R. Gil Kerlikowske,
Commissioner.

[FR Doc. 2014-25358 Filed 10-21-14; 4:15 pm]

BILLING CODE 9111-14-P